FEDERAL MARITIME COMMISSION

[Petition P5-03]

Petition of the National Customs Brokers and Forwarders Association of America, Inc. for Limited Exemption From Certain Tariff Requirements of the Shipping Act of 1984; Reopening of Comment Period; Oral Presentations

The National Customs Brokers and Forwarders Association of America, Inc. (“Petitioner”) has petitioned, pursuant to Section 16 of the Shipping Act of 1984, 46 U.S.C. app. 1715, and 46 CFR 502.67, for an exemption from the provisions of Section 8 and 10 of the Shipping Act of 1984, which require non-vessel ocean common carriers (“NVOCCs”) to establish, publish, maintain and enforce tariffs setting forth ocean freight rates. Alternatively, Petitioner requests that the Commission consider a more limited exemption and rulemaking that would allow NVOCCs to establish “range rates.” The period for the filing of comments in response to the petition closed on October 10, 2003.

The Commission has determined to re-open the comment period. Interested persons are requested to submit views or arguments in reply to the petition, or in reply to comments already received, no later than January 16, 2004. Comments shall consist of an original and 15 copies, and shall be directed to the Secretary, Federal Maritime Commission, 800 North Capitol Street, NW., Washington, DC 20573-0001. It is also requested that a copy be submitted in electronic form (WordPerfect, Word or ASCII) on diskette, or e-mailed to Secretary@fmc.gov.

The Commission has also determined to permit interested persons to make oral presentations in this proceeding. At the discretion of individual Commissioners, interested persons may request one-on-one meetings at which they may make presentations describing their views on the petition. Any meeting or meetings shall be completed before the close of the comment period. A summary or transcript of each oral presentation will be included in the record and must be submitted to the Secretary of the Commission within 5 days of the meeting. Persons wishing to make oral presentations should contact the Office of the Secretary to secure contact names and numbers for individual Commissioners.

The Commission has determined to waive the service requirements found at 46 CFR 502.114(b). Instead, copies of all filed comments, and copies of summaries or transcripts of oral presentations, may be viewed on the Commission's Web page at http://www.fmc.gov.

By the Commission.
Bryant L. VanBrakle,
Secretary.

[FR Doc. 03-28917 Filed 11-18-03; 8:45 am]

BILLING CODE 6730-01-P